OFFICE OF MANAGEMENT AND BUDGET

2 CFR Chapters I and II

Reform of Federal Policies Relating to Grants and Cooperative Agreements; Cost Principles And Administrative Requirements (Including Single Audit Act)

AGENCY: Executive Office of the President, Office of Management and Budget (OMB).

ACTION: Advance notice of proposed guidance; extension of comment period.

SUMMARY: The Office of Management and Budget (OMB) is extending the comment period for the Advance Notice of Proposed Guidance on Reform of Federal Policies Relating to Grants and Cooperative Agreements; cost principles and administrative requirements (including Single Audit Act). The original comment period was scheduled to end on March 29, 2012. With this document, OMB is extending the time period in which to provide public comments until April 30, 2012. This will allow interested parties additional time to analyze the issues and prepare their comments.

DATES: To be assured of consideration, comments must be received by OMB at one of the addresses provided below, no later than 5 p.m. Eastern Standard Time (E.S.T) on April 30, 2012.

ADDRESSES: In submitting commenting, please refer to file “Grant Reform”. You may submit comments using one of the following three alternatives (please choose only one of these three alternatives):

1. Electronically. You may submit electronic comments on this regulation to http://www.regulations.gov. Follow the instructions for submitting comments.

2. By express or overnight mail. You may send written comments to the following address only: Office of Management and Budget, 725 17th St NW., Washington DC, 20025, Attention: Office of Federal Financial Management “Grant Reform”.

3. By regular mail. You may mail written comments to the following address only: Office of Management and Budget, 725 17th St NW., Washington DC, 20025, Attention: Office of Federal Financial Management “Grant Reform”. Due to potential delays in OMB's receipt and processing of mail sent through the U.S. Postal Service, we strongly encourage respondents to submit comments electronically to ensure timely receipt. We cannot guarantee that comments sent via surface mail will be received before the comment closing date.

Comments will be most useful if they are presented in the same sequence (and with the same heading) as the section of this notice to which they apply. Also, if you are submitting comments on behalf of an organization, please identify the organization. Finally, the public comments received by OMB will be posted on OMB's Web site and at http://www.regulations.gov (follow the search instructions on that Web site to view public comments). Accordingly, please do not include in your comments any confidential business information or information of a personal-privacy nature.

FOR FURTHER INFORMATION CONTACT: Victoria Collin at (202) 395-7791 for general information.

SUPPLEMENTARY INFORMATION: OMB is extending the comment period for its advance notice of proposed guidance, which published in the Federal Register on February 28, 2012, at 77 FR 11178. The original comment period was scheduled to end on March 29, 2012, and this document extends it to April 30, 2012.

Copies of the OMB Circulars that are discussed in this notice are available on OMB's Web site at http://www.whitehouse.gov/omb/circulars_default/. Circulars A-110, A-21, A-87, and A-122 are also available at 2 CFR at http://ecfr.gpoaccess.gov/cgi/t/text/text-idx?c=ecfr&tpl=/ecfrbrowse/Title02/2cfrv1_02.tpl. The Cost Principles for Hospitals are in the regulations of the Department of Health and Human Services at 45 CFR part 75, appendix E (Principles for Determining Costs Applicable to Research and Development Under Grants and Contracts with Hospitals), at http://www.gpo.gov/fdsys/pkg/CFR-2011-title45-vol1/pdf/CFR-2011-title45-vol1.pdf.

Daniel I. Werfel,
Controller.

[FR Doc. 2012-7056 Filed 3-22-12; 11:15 am]

BILLING CODE P